NUCLEAR REGULATORY COMMISSION

[NRC-2014-0263]

Unified Agenda of Federal Regulatory and Deregulatory Actions; Correction

AGENCY: Nuclear Regulatory Commission.

ACTION: Semiannual regulatory agenda; correction.

SUMMARY: The U.S. Nuclear Regulatory Commission (NRC) is correcting a notice that was published in the Federal Register (FR) on December 22, 2014, regarding the semiannual regulatory agenda. This action is necessary to correct the Docket ID.

DATES: The correction is effective December 30, 2014.

ADDRESSES: Please refer to Docket ID NRC-2014-0263 when contacting the NRC about the availability of information regarding this document. You may obtain publicly-available information related to this document using any of the following methods:

• Federal Rulemaking Web Site: Go to http://www.regulations.gov and search for Docket ID NRC-2014-0263. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Cindy Bladey, Office of Administration, U.S. Nuclear Regulatory Commission, Washington, DC 20555-0001, telephone: 301-287-0949; email: Cindy.Bladey@nrc.gov. Persons outside the Washington, DC, metropolitan area may call, toll-free: 1-800-368-5642. For further information on the substantive content of any rule listed in the Agenda, contact the individual listed under the heading “Agency Contact” for that rule.

SUPPLEMENTARY INFORMATION: In the FR on December 22, 2014, in FR Doc. 2014-28992 on page 76856, in the heading; the first column, third paragraph; and second column, second, third, and sixth paragraphs, correct NRC-2014-0039 to read NRC-2014-0263.

Dated at Rockville, Maryland this 22nd day of December 2014.
For the Nuclear Regulatory Commission.
Helen Chang,
Acting Chief, Rules, Announcements, and Directives Branch, Division of Administrative Services, Office of Administration.

[FR Doc. 2014-30593 Filed 12-29-14; 8:45 am]

BILLING CODE 7590-01-P